FEDERAL COMMUNICATIONS COMMISSION

[IB Docket No. 07-23; DA No. 07-100]

International Bureau Invites Comment on Proposal To Remove Certain Non-U.S.-Licensed Satellites From Exclusion List for International Section 214 Authorization Purposes

AGENCY: Federal Communications Commission.

ACTION: Notice.

SUMMARY: The International Bureau invites comment on a proposal to remove from the Section 214 Exclusion List those non-U.S.-licensed satellites that have been allowed to enter the U.S. market for satellite services pursuant to the procedures adopted in the DISCO II Order. The International Bureau takes this action pursuant to its delegated authority to maintain the Section 214 Exclusion List, as set forth in the 1996 Streamlining Order.

DATES: Comments are due April 2, 2007 and reply comments are due April 16, 2007.

ADDRESSES: Federal Communications Commission, 445 12th Street SW., Room TW-B204, Washington, DC 20554.

FOR FURTHER INFORMATION: Jennifer Gorny Balatan or Howard Griboff, Policy Division, International Bureau, (202) 418-1460.

SUPPLEMENTARY INFORMATION: In this Document, the International Bureau invites comment on a proposal to remove from the Section 214 Exclusion List those non-U.S.-licensed satellites that have been allowed to enter the U.S. market for satellite services pursuant to the procedure adopted in the DISCO II Order. This action is taken pursuant to the International Bureau's authority to maintain the Section 214 Exclusion List, which was delegated to the Bureau by the Commission in the 1996 Streamlining Order.

In the 1996 Streamlining Order, the Commission promulgated rules for carriers to apply for and receive a global facilities-based Section 214 authorization, which allow carriers to provide international services using any U.S.-licensed facilities, such as U.S.-licensed satellites, without filing a separate Section 214 application for each new facility. In that order, the Commission also established the Section 214 Exclusion List, which identifies particular facilities and/or particular countries that are not included in a global facilities-based Section 214 authorization, and, therefore, require a separate Section 214 authorization under Section 214 of the Communications Act, as amended.

Initially, the Section 214 Exclusion List included all non-U.S.-licensed satellites. In 1999, however, the Commission as a matter of administrative convenience removed from the Section 214 Exclusion List those non-U.S.-licensed satellites that were on the Permitted Space Station List. The Permitted Space Station List includes all C- and Ku-band fixed-satellite service (FSS) satellites with which U.S. earth stations with routinely authorized technical parameters are permitted to communicate without additional Commission action, provided that those communications fall within the same technical parameters and conditions established in the earth stations' original licenses.

The Commission established the Permitted Space Station List in the DISCO II First Reconsideration Order to simplify the DISCO II process for non-U.S.-licensed FSS satellites seeking to serve the U.S. market. The administrative convenience provided by using the Permitted Space Station List to determine which non-U.S.-licensed satellites would be included in a global facilities-based Section 214 authorization is limited, however, by the fact that the Permitted Space Station List includes only C- and Ku-band FSS satellites. Non-U.S.-licensed satellites that operate in other services such as MSS, or in other frequency bands such as the L-, Ka-, or V-bands, would not be added to the Permitted Space Station List, and, therefore, still require a separate Section 214 authorization specifically permitting access to those satellites.

In view of these limitations, the International Bureau proposes to remove from the Section 214 Exclusion List any non-U.S.-licensed satellites that have been allowed to provide service to the United States under the DISCO II procedure. Under this proposal, the Permitted Space Station List would no longer be used for international Section 214 authorization purposes, and the proposal's adoption would allow service providers to access any authorized non-U.S.-licensed satellites through a global facilities-based Section 214 authorization. Note that only non-U.S.-licensed satellites that have been allowed to enter the U.S. market pursuant to the DISCO II procedure, which includes the public interest analysis, would qualify for removal from the Section 214 Exclusion List under this proposal.

Ex Parte Presentations. This is a permit-but-disclose proceeding. Ex parte presentations are permitted, provided they are disclosed as provided in §§ 1.1202, 1.1203, and 1.1206(a) of the Commission's Rules, 47 CFR 1.1202, 1.1203, and 1.1206(a).

Comments. Interested parties may file comments on or before 30 days after publication in the Federal Register, and reply comments on or before 45 days after publication in the Federal Register. All filings concerning matters referenced in the Public Notice should refer to DA 07-100 and IB Docket No. 07-23. Comments may be filed using: (1) The Commission's Electronic Comment Filing System (ECFS), (2) the Federal Government's eRulemaking Portal, or (3) by filing paper copies. See Electronic Filing of Documents in Rulemaking Proceedings, 63 FR 24121 (1998).

Electronic Filers: Comments may be filed electronically using the Internet by accessing the ECFS: http://www.fcc.gov/cgb/ecfs/ or the Federal eRulemaking Portal: http://www.regulations.gov. Filers should follow the instructions provided on the Web site for submitting comments.

For ECFS filers, filers must transmit one electronic copy of the comments for the docket number referenced in the caption. In completing the transmittal screen, filers should include their full name, U.S. Postal Service mailing address, and the applicable docket number. Parties may also submit an electronic comment by Internet e-mail. To get filing instructions, filers should send an e-mail to ecfs@fcc.gov, and include the following words in the body of the message, “get form.” A sample form and directions will be sent in response.

Paper Filers: Parties who choose to file by paper must file an original and four copies of each filing.

Filings can be sent by hand or messenger delivery, by commercial overnight courier, or by first-class or overnight U.S. Postal Service mail (although we continue to experience delays in receiving U.S. Postal Service mail). All filings must be addressed to the Commission's Secretary, Office of the Secretary, Federal Communications Commission.

The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

Commercial overnight mail (other than U.S. Postal Service Express Mail and Priority Mail) must be sent to 9300 East Hampton Drive, Capitol Heights, MD 20743. U.S. Postal Service first-class, Express, and Priority mail should be addressed to 445 12th Street, SW., Washington DC 20554.

One copy of each pleading must be delivered electronically, by e-mail or facsimile, or if delivered as a paper copy, by hand or messenger delivery, by commercial overnight courier, or by first-class or overnight U.S. Postal Service (according to the procedures set forth above for paper filings), to the Commission's duplicating contractor, Best Copy and Printing, Inc., at http://www.bcpiweb.com or (202) 488-5563 (facsimile).

Copies of comments, reply comments, and ex partes in this matter may be obtained from Best Copy and Printing, Inc., in person at 445 12th Street, SW., Room CY-B402, Washington, DC 20554, via telephone at (202) 488-5300, via facsimile at (202) 488-5563, or via e-mail at fcc@bcpiweb.com. The comments, reply comments and ex partes are also available for public inspection and copying during normal reference room hours at the following Commission office: FCC Reference Information Center, 445 12th Street, SW., Room CY-A257, Washington, DC 20554. These documents are also available electronically through the Commission's ECFS, which may be accessed on the Commission's Internet Web site at http://www.fcc.gov.

People with Disabilities: Contact the FCC to request materials in accessible formats (braille, large print, electronic files, audio format, etc.) by e-mail at FCC504@fcc.gov or call the Consumer & Governmental Affairs Bureau at 202-418-0530 (voice), 202-418-0432 (TTY).

Federal Communications Commission.
Marlene H. Dortch,
Secretary.

[FR Doc. E7-3521 Filed 2-28-07; 8:45 am]

BILLING CODE 6712-01-P